INTERNATIONAL TRADE COMMISSION

[Investigation No. 701-TA-431 (Final)]

Drams and Dram Modules From Korea

Determination

On the basis of the record ¹ developed in the subject investigation, the United States International Trade Commission (Commission) determines,² pursuant to section 705(b) of the Tariff Act of 1930 (19 U.S.C. 1671d(b)) (the Act), that an industry in the United States is materially injured by reason of imports from Korea of dynamic random access memory semiconductors (DRAMs) and DRAM modules, provided for in subheadings 8473.30.10 and 8542.21.80 of the Harmonized Tariff Schedule of the United States, that have been found by the Department of Commerce (Commerce) to be subsidized by the Government of Korea.

¹ The record is defined in § 207.2(f) of the Commission's rules of practice and procedure (19 CFR 207.2(f)).

² Commissioner Marcia E. Miller did not participate in this investigation.

Background

The Commission instituted this investigation effective November 1, 2002, following receipt of a petition filed with the Commission and Commerce by Micron Technology, Inc., Boise, ID. The final phase of the investigation was scheduled by the Commission following notification of a preliminary determination by Commerce that imports of DRAMs and DRAM modules from Korea were being subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register of April 16, 2003 (68 FR 18671). The hearing was held in Washington, DC, on June 24, 2003, and all persons who requested the opportunity were permitted to appear in person or by counsel.

The Commission transmitted its determination in this investigation to the Secretary of Commerce on August 4, 2003. The views of the Commission are contained in USITC Publication 3617 (August 2003), entitled DRAMs and DRAM Modules from Korea: Investigation No. 701-TA-431 (Final).

Issued: August 4, 2003.
By order of the Commission.
Marilyn R. Abbott,
Secretary to the Commission.

[FR Doc. 03-20365 Filed 8-8-03; 8:45 am]

BILLING CODE 7020-02-P